DEPARTMENT OF COMMERCE

International Trade Administration

[A-570-846]

Brake Rotors From the People's Republic of China: Initiation of New Shipper Antidumping Duty Reviews

AGENCY: Import Administration, International Trade Administration, Department of Commerce.

SUMMARY: The Department of Commerce has received requests to conduct new shipper reviews of the antidumping duty order on brake rotors from the People's Republic of China. In accordance with 19 CFR 351.214(d), we are initiating reviews for Hongfa Machinery (Dalian) Co., Ltd. and Luoyang Haoxiang Brake Disc Factory. We are not initiating a review of Shenyang Jinde Machinery Co., Ltd.

EFFECTIVE DATE: June 2, 2000.

FOR FURTHER INFORMATION CONTACT: Terre Keaton or Brian Smith, Import Administration, International Trade Administration, U.S. Department of Commerce, 14th Street and Constitution Avenue, N.W., Washington, D.C. 20230; telephone (202) 482-1280 or 482-1766, respectively.

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to 19 CFR Part 351 (April 2000).

SUPPLEMENTARY INFORMATION:

Background

The Department has received timely requests from Neotek Corporation (“Neotek”), Hongfa Machinery (Dalian) Co., Ltd. (“Hongfa”), and Luoyang Haoxiang Brake Disc Factory (“Luoyang”), in accordance with 19 CFR 351.214(c), for new shipper reviews of the antidumping duty order on brake rotors from the People's Republic of China (“PRC”), which has an April anniversary date. Neotek originally claimed that it was an exporter, as well as an importer. However, on May 17, 2000, Neotek clarified that it was not the PRC exporter/producer of the subject merchandise. Therefore, Neotek sought to amend its request by filing on behalf of its affiliated PRC producer/exporter of the subject merchandise, Shenyang Jinde Machinery Co., Ltd. (“Shenyang Jinde”).

As required by 19 CFR 351.214(b)(2)(i) and (iii)(A), each of the three companies identified above has certified that it did not export brake rotors to the United States during the period of investigation (“POI”), and that it has never been affiliated with any exporter or producer which did export brake rotors during the POI. Each company has further certified that its export activities are not controlled by the central government of the PRC, satisfying the requirements of 19 CFR 351.214(b)(2)(iii)(B). Pursuant to the Department's regulations at 19 CFR 351.214(b)(2)(iv), Hongfa, Luoyang and Shenyang Jinde each submitted documentation establishing the date on which it first shipped the subject merchandise to the United States, the volume of that first shipment, and the date of the first sale to an unaffiliated customer in the United States.

We are not initiating a review with respect to Shenyang Jinde for two reasons. First, no request was made during the relevant anniversary month for review of entries exported by Shenyang Jinde (i.e., because Sheyang Jinde's request was untimely). Second, the date on which Shenyang Jinde reportedly first sold and shipped subject merchandise to the United States was after the end of the period for which brake rotor can be reviewed at this time (i.e., the period April 1, 1999, through March 31, 2000).

In accordance with section 751(a)(2)(B) of the Act, as amended, and 19 CFR 351.214(b), and based on information on the record, we are initiating the new shipper reviews for Hongfa and Luoyang.

It is the Department's usual practice in cases involving non-market economies to require that a company seeking to establish eligibility for an antidumping duty rate separate from the country-wide rate provide de jure and de facto evidence of an absence of government control over the company's export activities. Accordingly we will issue a questionnaire to Hongfa and Luoyang (including a complete separate rates section), allowing approximately 37 days for response. If the response from each respondent provides sufficient indication that it is not subject to either de jure or de facto government control with respect to its exports of brake rotors, each review will proceed. If, on the other hand, a respondent does not demonstrate its eligibility for a separate rate, then it will be deemed to be affiliated with other companies that exported during the POI and that it did not establish entitlement to a separate rate, and the review of that respondent will be rescinded.

Initiation of Review

In accordance with section 751(a)(2)(B)(ii) of the Act and 19 CFR 351.214(d)(1), we are initiating new shipper reviews of the antidumping duty order on brake rotors from the PRC. Therefore, we intend to issue the preliminary results of these reviews not later than 180 days after the date on which the reviews are initiated.

Antidumping duty proceeding | Period to be reviewed
PRC: Brake Rotors, A-570-846: Hongfa Machinery (Dalian) Co., Ltd., Luoyang Haoxiang Brake Disc Factory | 04/01/99-03/31/00

We will instruct the Customs Service to allow, at the option of the importer, the posting, until the completion of the review, a bond or security in lieu of a cash deposit for each entry of the merchandise exported by the above-listed companies. This action is in accordance with 19 CFR 351.214(e).

Interested parties that need access to proprietary information in these new shipper reviews should submit applications for disclosure under administrative protective orders in accordance with 19 CFR 351.305 and 351.306.

This initiation and notice are in accordance with section 751(a) of the Act (19 U.S.C. 1675(a)) and 19 CFR 351.214(d).

Dated: May 26, 2000.
Richard W. Moreland,
Deputy Assistant Secretary, Import Administration.

[FR Doc. 00-13882 Filed 6-1-00; 8:45 am]

BILLING CODE 3510-DS-P